DEPARTMENT OF AGRICULTURE

Forest Service

Generic Information Collection for Land Management Planning

AGENCY: Forest Service, USDA.

ACTION: Notice; request for comment.

SUMMARY: In accordance with the Paperwork Reduction Act of 1995, the Forest Service is seeking comments from all interested individuals and organizations on the proposed information collection, Generic Information Collection for Land Management Planning.

DATES: Comments must be received in writing on or before November 29, 2013 to be assured of consideration. Comments received after that date will be considered to the extent practicable.

ADDRESSES: Comments concerning this notice should be addressed to the U.S. Forest Service, Annie Eberhart Goode, Planning Specialist, Ecosystem Management Services, 6th Floor, 1601 N. Kent Street, Rosslyn, VA 22209. Comments also may be submitted via facsimile to 703-235-0138 or by email to: aegoode@fs.fed.us.

The public may inspect comments received at 1621 N. Kent Street, Rosslyn, VA during normal business hours. Visitors are encouraged to call ahead to 202-205-1056 to facilitate entry to the building. Additionally, comments may be viewed at www.fs.usda.gov/goto/planningrule/directives.

FOR FURTHER INFORMATION CONTACT: Annie Eberhart Goode; 202-205-1056. Individuals who use telecommunication devices for the deaf (TDD) may call the Federal Information Relay Service (FIRS) at 1-800-877-8339 between 8:00 a.m. and 8:00 p.m., Eastern Standard Time, Monday through Friday.

SUPPLEMENTARY INFORMATION: Title: Generic Information Collection for Land Management Planning.

OMB Number: 0596-NEW.

Expiration Date of Approval: N/A.

Type of Request: New.

Abstract:

Section 6 of the National Forest Management Act of 1976 (16 U.S.C.1600 et seq.) (NFMA) and implementing regulations 36 CFR 219 (2012 Planning Rule) direct the U. S. Forest Service (the Agency) to revise land management plans for each National Forest System (NFS) unit every 15 years, and to continuously monitor conditions to inform interim or subsequent planning actions. Development of Land Management Plans (LMP) pursuant to the NFMA and the 2012 Planning Rule requires an assessment phase, planning phase, and monitoring phase, all of which are designed to foster a transparent, collaborative, and informed planning process.

The planning process defined by the NFMA and the 2012 Planning Rule requires public participation and involvement. As such, the Agency will invite public participation broadly to facilitate public comment and the submission of information that members of the public find to be relevant.

To ensure that the Agency can be inclusive of, and responsive to, stakeholder concerns in the development of land management plans, the Forest Service seeks to obtain OMB approval of a generic clearance to collect both quantitative and qualitative feedback and information for consideration and use in land management planning.

The NFMA and 2012 Planning Rule require the Agency to provide opportunities to the public to participate in the planning process. Information provided by the public assists the Agency in ensuring that LMPs guide management of NFS lands so that they are ecologically sustainable and contribute to social and economic sustainability. In particular, the Rule requires the Agency to identify and consider “relevant, existing” information. Public participation is required at each stage of the planning process—assessment, planning, and monitoring.

During the assessment phase, pursuant to the 2012 Planning Rule provision on assessments (36 CFR 219.6), the Agency is required to “identify and evaluate existing information” relevant to the plan area for the following:

(1) Terrestrial ecosystems, aquatic ecosystems, and watersheds;

(2) Air, soils, and water resources and quality;

(3) System drivers, including dominant ecological processes, disturbance regimes, and stressors, such as natural succession, wildland fire, invasive species, and climate change; and the ability of terrestrial and aquatic ecosystems on the plan area to adapt to change;

(4) Baseline assessment of carbon stocks;

(5) Threatened, endangered, proposed, and candidate species and potential species of conservation concern present in the plan area;

(6) Social, cultural, and economic conditions;

(7) Benefits people obtain from the NFS planning area (ecosystem services);

(8) Multiple uses and their contributions to local, regional, and national economies;

(9) Recreation settings, opportunities and access, and scenic character;

(10) Renewable and nonrenewable energy and mineral resources;

(11) Infrastructure, such as recreational facilities and transportation and utility corridors;

(12) Areas of tribal importance;

(13) Cultural and historic resources and uses;

(14) Land status and ownership, use, and access patterns; and

(15) Existing designated areas located in the plan area including wilderness and wild and scenic rivers and potential need and opportunity to additional designated areas.

Further, the Agency is required to accept additional comment and feedback throughout the planning process and then monitor conditions, including accepting public input in the plan area, and reporting to the public biennially.

Although the following are not considered “information” as defined by the Paperwork Reduction Act (PRA) (5 CFR 1320.3(h)), they do represent the vast majority of the ways and methods that will be used by the Agency to obtain information from stakeholders:

• Facts or opinions obtained through direct observation by an employee or agent of the sponsoring agency or through non-standardized oral communication in connection with such direct observations;

• Facts or opinions submitted in response to general solicitations of comments from the public, published in the Federal Register or other publications, regardless of the form or format thereof, provided that no person is required to supply specific information pertaining to the commenter, other than that necessary for self-identification, as a condition of the agency's full consideration of the comment;

• A request for facts or opinions addressed to a single person;

• Facts or opinions obtained or solicited at or in connection with public hearings or meetings;

• Like items so designated by OMB.

Public participation will be sought during all three phases of a plan revision: assessment, planning, and monitoring. Typically, NFS units publish general solicitations for comments from the public and hold public meetings. Private information will be considered and will become part of the public record if voluntarily provided.

Because the 2012 Planning Rule places strong emphasis on transparency of communication, inclusiveness, and active public involvement, the Agency anticipates that NFS units will innovate and develop new techniques that facilitate focused communication, which produces more granular detail on stakeholder goals and concerns related to forest management. The intent of this generic information collection request (ICR) is to provide an efficient avenue for ensuring that innovative communications strategies have an efficient means of obtaining OMB approval in accordance with the Paperwork Reduction Act.

For example, if a forest planning team recognizes that a complex issue is not well understood, focus groups of knowledgeable stakeholders could be designed and convened to ensure that the issue is well understood by the Agency.

Another example of a communication strategy that could be supported by this generic ICR would be the solicitation of comments on specific issues. Although the PRA does not consider facts and opinions submitted “in response to general solicitation of comments” ((5 CFR 1320.3(h)(4)) to be “information,” planning for NFS units is complex, and it may be appropriate for public meetings regarding unique resource issues, such as water use, protection of a sensitive area, energy resources or similar issues, as opposed to a general solicitation of comments to be held. Such outreach could support an “iterative” approach to land management planning and facilitate productive public input on complex matters.

Additionally, the 2012 Planning Rule and Executive Order 12372 require intergovernmental communication both broadly and specifically. Regular and consistent engagement of State, local, and tribal governments is an important element of land management planning for NFS units. In addition to public meetings, to which all such public entities are invited, planning teams may contact jurisdictions adjacent or proximate to NFS units with similar and/or targeted notices, including a notice that planning for a forest unit has begun and that the planning team will be assessing information about 15 resource categories.

This generic information collection is intended to facilitate customer and stakeholder feedback and input in an efficient, timely manner while at the same time staying in compliance with the PRA. The information collected from our customers and stakeholders will help ensure that the development of land management plans is both transparent and well-informed. This feedback and input will provide insights into customer or stakeholder perceptions, experiences and expectations, provide an early warning of issues with service, or focus attention on areas where communication, training, or changes in operations might improve delivery of products or services such as improved LMPs or the implementation thereof. These collections will allow for ongoing, collaborative, and actionable communications, and the sharing of applicable information between the Agency and its customers and stakeholders. It will also allow feedback to contribute directly to the improvement of program management.

How will information be collected? The 2012 Planning Rule specifically states that, outside of basic notification requirements, the Responsible Official has the discretion to determine the “scope, methods, forum, and timing” of public input. Additionally, the Responsible Official “…shall encourage participation” of youth, low-income populations, and minority populations as well as private landowners whose property may be affected by the land management plan. To meet the letter and spirit of the 2012 Planning Rule, Line Officers need to enhance and support public participation. Although every instance and approach to public participation cannot be identified, the types of collections that this generic clearance is intended to cover include, but are not limited to:

• Customer/stakeholder comment cards/complaint forms;

• Small discussion groups;

• Focus Groups of customers, potential customers, delivery partners, or other stakeholders;

• Cognitive laboratory studies, such as those used to refine questions or assess usability of a Web site;

• Qualitative stakeholder surveys;

• In-person observation testing (for example, Web site or software usability tests);

• Targeted requests for information from State, local, and tribal governments, non-profit groups, and other stakeholders;

• Quantitative surveys designed to inform development of land management plans;

• Other innovative communication strategies designed to facilitate voluntary provision of information by the public to NFS units with minimal burden that may be approved by OMB.

Who will collect the information? Public outreach is conducted by the Responsible Official for land management planning, with assistance from the Interdisciplinary Team assembled, as required by the NFMA, to develop a land management plan, well informed by the public.

What information will be collected? Any information that members of the public seek to provide to the Agency will be collected. The 2012 Planning Rule identifies broad 15 categories that must be evaluated when assessing a plan area (36 CFR 219.6). In addition, biennial monitoring of the condition of the plan area is required, and 8 broad categories are identified for inclusion in monitoring plans.

From whom will the information be collected? All members of the public, stakeholder groups, and State, tribal, and local governments who would like to provide information to the Agency regarding land management planning.

How will the information be used? To inform development of land management plans.

Who will evaluate or analyze the information? Agency personnel, assigned to a planning task, are responsible for evaluation of any information provided.

Estimate of Annual Burden:

Type of Respondents: Members of the public, including State, local and tribal government representatives.

Estimated Annual Number of Respondents: 34,000.

Estimated Annual Number of Responses per Respondent: 1-2.

Estimated Burden per Response: .6 hours.

Estimated Total Annual Burden on Respondents: 21,000 hours.

Comment is Invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: September 24, 2013.
Tony Tooke,
Associate Deputy Chief, National Forest System.

[FR Doc. 2013-23767 Filed 9-27-13; 8:45 am]

BILLING CODE 3410-11-P